DEPARTMENT OF ENERGY

Federal Energy Regulatory Commission

[Docket No. CP03-23-000]

In the Matter of Southern Natural Gas Company and ANR Pipeline Company; Notice of Application

December 23, 2002.

Take notice that on December 10, 2002, Southern Natural Gas Company (Southern) P.O. Box 2563, Birmingham, Alabama 35202-2563, and ANR Pipeline Company (ANR), P. O. Box 2511, Houston, Texas 77252, filed an abbreviated joint application pursuant to section 7(b) of the Natural Gas Act, as amended, and sections 157.7 and 157.14 of the Commission's regulations for authorization to abandon the transportation services, previously authorized in Docket No. CP79-498 (12 FERC § 61,194), rendered under ANR's X-115 and X-116 Rate Schedules on behalf of Southern effective as of March 31, 2002. The application is on file with the Commission and open to public inspection.

ANR states that it has provided firm transportation service on behalf of Southern pursuant to ANR's Rate Schedules X-115 and X-116 whereby Southern delivers to ANR in the summer months up to 57,514 Mcf per day of natural gas at an existing point of interconnection between the pipeline systems of ANR and Southern in St Mary, Parish, Louisiana (the Shadyside Delivery Point) where ANR would then transport and redeliver thermally equivalent volumes to Great Lakes Gas Transmission Company at Farwell, Clare County, Michigan, for subsequent redelivery to ANR Storage Company. During the winter heating period, ANR would transport and redeliver thermally equivalent volumes of gas which it received from Great Lakes at Farwell to Southern at Shadyside at a daily rate of up to 173,476 Mcf. Such service was provided pursuant to agreements dated January 31, 1979, and February 1, 1979, respectively, for which the primary term will expire March 31, 2003. Since Southern requested termination of the service under ANR's X-115 and X-116 Rates Schedules, ANR has requested that the abandonment of Rate Schedules X-115 and X-116 be effective March 31, 2003.

Any person desiring to be heard or to make any protest with reference to said application should on or before January 13, 2003, file with the Commission, 888 First Street NE., Washington, DC 20426, a motion to intervene or protest in accordance with the requirements of the Commission's rules of practice and procedure, 18 CFR 385.211 or 385.214, and the regulations under the Natural Gas Act, 18 CFR 157.10. All protests filed with the Commission will be considered by it in determining the appropriate action to be taken but will not serve to make the protestants parties to the proceedings. Any person wishing to become a party to a proceeding or to participate as a party in any hearing therein must file a motion to intervene in accordance with the Commission's rules.

Take further notice that, pursuant to the authority contained in and subject to the jurisdiction conferred upon the Commission by sections 7 and 15 of the Natural Gas Act and the Commission's rules of practice and procedure, a hearing will be held without further notice before the Commission or its designee on this application if no motion to intervene is filed within the time required herein or if the Commission on its own review of the matter finds that a grant of the subject authorization is required by the public convenience and necessity. If a motion for leave to intervene is timely filed or if the Commission on its own motion believes that formal hearing is required, further notice of such hearing will be duly given.

Under the procedure herein provided for, unless otherwise advised, it will be unnecessary for Southern or ANR to appear or be represented at the hearing.

Linwood A. Watson, Jr.,
Deputy Secretary.

[FR Doc. 02-32870 Filed 12-27-02; 8:45 am]

BILLING CODE 6717-01-P